DEPARTMENT OF COMMERCE

National Oceanic and Atmospheric Administration

RIN 0648-XE37

Marine Mammals; File No. 473-1700

AGENCY: National Marine Fisheries Service (NMFS), National Oceanic and Atmospheric Administration (NOAA), Commerce.

ACTION: Notice; receipt of application for amendment.

SUMMARY: Notice is hereby given that Janice Straley, University of Alaska, 1332 Seward Ave, Sitka, Alaska 99835, has requested an amendment to scientific research Permit No. 473-1700-01.

DATES: Written, telefaxed, or e-mail comments must be received on or before January 25, 2008.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 473-1700.

FOR FURTHER INFORMATION CONTACT: Jaclyn Daly or Amy Sloan, (301)713-2289.

SUPPLEMENTARY INFORMATION: The subject amendment to Permit No. 473-1700-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 473-1700 was issued to the applicant on June 20, 2004 (69 FR 44514). A minor amendment (No. 473-1700-01) was issued on December 4, 2005 and remains valid through June 30, 2009. The current permit authorizes the permit holder to conduct research on humpback whales (Megaptera novaeangliae), gray whales (Eschrichtius robustus) , minke whales (Balaenoptera acustorostrata), sperm whales (Physeter macrocephalus) , fin whales (Balaenoptera physalus), and killer whales (Orcinus orca). Incidental harassment of harbor porpoise (Phocoena phocoena), Dall's porpoise (P. dalli), Atlantic white-sided dolphins (Lagenorhynchus obliquidens), Steller sea lions (Eumetopias jubatus), harbor seals (Phoca vitulina) and Northern fur seals (Callorhinus ursinus) is also authorized. Research methods include photo-identification, passive acoustic recording, behavioral observations, suction-cup tagging (including Crittercam), and biopsy. The permit holder requests authorization to increase the number of sperm whales that may be suction-cup tagged to 50 (an increase of 25 animals), attach satellite tags to 20 sperm whales and 20 killer whales, and modify operations of fishing vessel methods which could result in the taking of 40 sperm whales by Level B harassment. All research would be conducted in the Gulf of Alaska. The permit amendment would be effective until the permit expiration date.

Concurrent with the publication of this notice in the Federal Register, NMFS is forwarding copies of this application to the Marine Mammal Commission and its Committee of Scientific Advisors.

Dated: December 18, 2007.
Patrick Opay,
Acting Chief, Permits, Conservation and Education Division, Office of Protected Resources, National Marine Fisheries Service.

[FR Doc. E7-24944 Filed 12-21-07; 8:45 am]

BILLING CODE 3510-22-S